FEDERAL COMMUNICATIONS COMMISSION

47 CFR Part 73

[DA 01-2002; MM Docket No. 01-198, RM-10213; MM Docket No. 01-199, RM-10214; MM Docket No. 01-200, RM-10215; MM Docket No. 01-201, RM-10216; MM Docket No. 01-202, RM-10217; MM Docket No. 01-203, RM-10218; MM Docket No. 01-204, RM-10219]

Radio Broadcasting Services; Junction, TX; Knox City, TX; Dilley, TX; Frederic, MI; Goree, TX; Leakey, TX; and Sweetwater, TX

AGENCY: Federal Communications Commission.

ACTION: Proposed rule.

SUMMARY: This document proposes seven new allotments to Junction, Texas; Knox City, Texas; Dilley, Texas, Frederic, Michigan, Goree, Texas, Leakey, Texas; and Sweetwater, Texas. See Supplementary Information, infra.

DATES: Comments must be filed on or before October 15, 2001, and reply comments on or before October 30, 2001.

ADDRESSES: Federal Communications Commission, Washington, DC 20554. In addition to filing comments with the FCC, interested parties should serve the petitioner, his counsel, or consultant, as follows: Katherine Pyeatt, 6655 Aintree Circle, Dallas Texas, (Petitioner for Junction, Texas); Jeraldine Anderson, 1702 Cypress Drive, Irving, Texas 75061 (Petitioner for Knox City, Dilley, Goree, Leakey, and Sweetwater, Texas); and Arthur V. Belendiuk, Esq., Smithwick & Belendiuk, P.C., 5028 Wisconsin Ave., NW., Suite 301, Washington, DC 20016 (Counsel for Alpine Wireless of Frederic).

SUPPLEMENTARY INFORMATION: This is a synopsis of the Commission's Notice of Proposed Rule Making, MM Docket No. 01-198; MM Docket No. 01-199; and MM Docket No. 01-200, MM Docket No. 01-201; MM Docket No. 01-202 ; MM Docket No. 01-203; and MM Docket No. 01-204, adopted August 15, 2001, and released August 24, 2001. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

The Commission requests comments on a petition filed by Katherine Pyeatt proposing the allotment of Channel 277C3 at Junction, Texas, as potentially the community's third local FM transmission service. Channel 277C3 can be allotted to Junction in compliance with the Commission's minimum distance separation requirements with a site restriction of 12.3 kilometers (7.6 miles) south to avoid short-spacings to the licensed sites of Station KKCN(FM), Channel 276C1, Ballinger, Texas, and Station KEEP(FM), Channel 276A, Bandera, Texas. The coordinates for Channel 277C3 at Junction are 30-22-51 North Latitude and 99-47-59 West Longitude. Since Junction is located within 320 kilometers (199 miles) of the U.S.-Mexican border, concurrence of the Mexican government has been requested.

The Commission requests comments on a petition filed by Jeraldine Anderson proposing the allotment of Channel 291A at Knox City, Texas, as the community's second local FM transmission service. Channel 291A can be allotted to Knox City in compliance with the Commission's minimum distance separation requirements with a site restriction of 2.7 kilometers (1.7 miles) northeast to avoid a short-spacing to the construction permit site of Station KKHR(FM), Channel 292C2, Abilene, Texas. The coordinates for Channel 291A at Knox City are 33-25-55 North Latitude and 99-47-43 West Longitude.

The Commission requests comments on a petition filed by Jeraldine Anderson proposing the allotment of Channel 264A at Dilley, Texas, as the community's second local FM transmission service. Channel 264A can be allotted to Dilley in compliance with the Commission's minimum distance separation requirements at city reference coordinates. The coordinates for Channel 264A at Dilley are 28-40-02 North Latitude and 99-10-13 West Longitude. Since Dilley is located within 320 kilometers (199 miles) of the U.S.-Mexican border, concurrence of the Mexican government has been requested.

The Commission requests comments on a petition filed by Alpine Wireless of Frederic proposing the allotment of Channel 237A at Frederic, Texas, as the community's first local aural transmission service. Channel 237A can be allotted to Frederic in compliance with the Commission's minimum distance separation requirements with a site restriction of 7.6 kilometers (4.7 miles) east to avoid a short-spacing to the licensed sites of Station WCFX(FM), Channel 237A, Clare, Michigan, and Station WJZJ(FM), Channel 238C2, Glen Arbor, Michigan. The coordinates for Channel 237A at Frederic are 44-46-29 North Latitude and 84-39-29 West Longitude. Since Frederic is located within 320 kilometers (200 miles) of the U.S.-Canadian border, concurrence of the Canadian government has been requested.

The Commission requests comments on a petition filed by Jeraldine Anderson proposing the allotment of Channel 275A at Goree, Texas, as the community's first local aural transmission service. Channel 275A can be allotted to Goree in compliance with the Commission's minimum distance separation requirements with a site restriction of 4.3 kilometers (2.7 miles) northeast to avoid a short-spacing to the licensed site of Station KHXS(FM), Channel 274C1, Merkel, Texas. The coordinates for Channel 275A at Goree are 33-30-00 North Latitude and 99-30-00 West Longitude.

The Commission requests comments on a petition filed by Jeraldine Anderson proposing the allotment of Channel 299A at Leakey, Texas, as the community's third FM transmission service. Channel 299A can be allotted to Leakey in compliance with the Commission's minimum distance separation requirements with a site restriction of 13.3 kilometers (8.3 miles) west to avoid short-spacings to the licensed sites of Station KXTN-FM, Channel 298C, San Antonio, Texas, and Station XHPC-FM, Channel 300B, Piedras, Mexico. The coordinates for Channel 299A at Leakey are 29-41-58 North Latitude and 99-53-41 West Longitude. Since Leakey is located within 320 kilometers (199 miles) of the U.S.-Mexican border, concurrence of the Mexican government has been requested.

The Commission requests comments on a petition filed by Jeraldine Anderson proposing the allotment of Channel 221C3 at Sweetwater, Texas, as the community's second FM transmission service. Channel 221C3 can be allotted to Sweetwater in compliance with the Commission's minimum distance separation requirements at city reference coordinates and requires no site restriction. The coordinates for Channel 221C3 at Sweetwater are 32-28-15 North Latitude and 100-24-20 West Longitude. Since Sweetwater is located within 320 kilometers (199 miles) of the U.S.-Mexican border, concurrence of the Mexican government has been requested.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CRF part 73 as follows:

PART 73—RADIO BROADCAST SERVICES

1.The authority citation for part 73 continues to read as follows:

Authority: 47 U.S.C. 154, 303, 334 and 336.

§ 73.202 [Amended]

2. Section 73.202(b), the Table of FM Allotments under Michigan, is amended by adding Frederic, Channel 237A.

2. Section 73.202(b), the Table of FM Allotments under Texas, is amended by adding Channel 264A at Dilley; adding Goree, Channel 275A; adding Channel 277C3 at Junction; adding Channel 291A at Knox City, TX; adding Channel 299A at Leakey; and adding Channel 221C3 at Sweetwater, TX

Federal Communications Commission.
John A. Karousos,
Chief, Allocations Branch, Policy and Rules Division, Mass Media Bureau.

[FR Doc. 01-22207 Filed 9-4-01; 8:45 am]

BILLING CODE 6712-01-P